FEDERAL COMMUNICATIONS COMMISSION

[Report No. AUC-03-83-A (Auction No. 83); DA 03-359]

FM Translator Auction Filing Window and Application Freeze

AGENCY: Federal Communications Commission.

ACTION: Notice.

SUMMARY: This document announces an auction filing window for certain FM translator station construction permit applications and a freeze on the acceptance of FM translator and FM booster minor change and FM booster new construction permit applications from February 8 to March 14, 2003.

DATES: The filing window will open on March 10, 2003, and close on March 14, 2003.

FOR FURTHER INFORMATION CONTACT: James Bradshaw or Lisa Scanlan, Audio Division, Media Bureau at (202) 418-2700; Auction Technical Support at (202) 414-1250.

SUPPLEMENTARY INFORMATION: This is a summary of a Public Notice released February 6, 2003. The complete text of the Public Notice, including four attachments providing guidelines for electronic application filing, is available for inspection and copying during normal business hours in the FCC Reference Information Center (Room CY-A257), 445 12th Street, SW., Washington, DC. It may also be purchased from the Commission's copy contractor, Qualex International, 445 12th Street, SW., Room CY-B402, Washington, DC 20554, (202) 863-2898. It is also available on the Commission's Web site at http://www.fcc.gov.

General Information

The Media Bureau (“MB”) and the Wireless Telecommunications Bureau (“WTB”) announce an auction filing window for certain FM translator station construction permit applications. The filing window will open on March 10, 2003, and close on March 14, 2003. In connection with this window, MB also announces that it will not accept FM translator and FM booster minor change construction permit applications and FM booster new construction permit applications between February 8, 2003, and March 14, 2003.

The window is available for non-reserved band (channels 221 to 300) proposals for new FM translator stations and major modifications to authorized FM translator facilities. (See “Implementation of section 309(j) of the Communications Act—Competitive Bidding for Commercial Broadcast and Instructional Television Fixed Service Licenses,” First Report and Order, 63 FR 48615, September 11, 1998. A window open for proposals in the non-reserved band provides a filing opportunity for both noncommercial educational (“NCE”) and commercial FM translator applicants. See 47 CFR 74.1202(b)).

The Commission also will consider those FM translator station new and major modification applications that were received on or before November 26, 1997, but for which no “A” cut-off list had been released by that date (“Frozen FM Translator Applications”). Also on file are a number of FM translator station new and major modification applications filed after November 26, 1997, with “freeze waiver” requests (“Freeze Waiver Applications”). These applicants also may participate in the filing window. Freeze Waiver Applications must protect all minor change applications filed on or before February 7, 2003, in order to be considered in the upcoming window, the same requirement that will apply generally to new FM translator station and major change proposals submitted for the first time in the filing window.

MB will institute a temporary freeze on the acceptance of minor change FM translator applications on all channels (channels 201-300) at 12:01 a.m. Eastern Time (“ET”), February 8, 2003. The freeze shall remain in effect until the close of the window. Minor change applications filed during this freeze will be dismissed.

Participation. All applicants for new FM translator stations and major modifications to authorized FM translator facilities must:

• If Form 349 IS NOT on file: File electronically FCC Form 349, Application for Authority to Construct or Make Changes in an FM Translator or FM Booster Station, between 12:01 a.m. ET, March 8, 2003 and 6 p.m. ET, March 14, 2003.

• If an FCC Form 349 Frozen FM Translator Application or Freeze Waiver Application IS currently on file: The applicant should confirm that the information on file is accurate and complete.

• If no changes in the previously filed Form 349 applications are necessary, the applicant must only file Form 175. The Form 175 must include the file number of all previously filed Form 349 applications.

• If any information in a Frozen FM Translator Application or Freeze Waiver Application is no longer accurate and complete, the applicant must file a new Form 349 application electronically, completing Section I, the Tech Box of Section III-A, and the Section VI Certification.

• File electronically an FCC Form 175 by 6 p.m. ET March 14, 2003.

• Comply with all provisions outlined in the Public Notice and applicable rules of the Commission.

An applicant's failure to reference a pending Form 349 application on its Form 175 will result in the dismissal of that Form 349 application. No consideration will be given any proposal for which the required engineering information is not on file by the close of the window. No application filing fee is required at this time.

Application Processing. After the close of the window, the Commission will make mutual exclusivity determinations with regard to all timely and complete filings. Applications received during the filing window that are not mutually exclusive with any other applications submitted in the filing window will be identified by subsequent public notice. No amendments to the FM translator filing window Form 349 application, technical or otherwise, will be accepted between the close of the application filing window, March 14, 2003, and the public notice listing the non-mutually exclusive FM translator applications. Complete FCC Form 349 non-mutually exclusive applications will be processed and the staff will release public notices listing those applications determined acceptable for filing. Petitions to deny must be filed within 15 days of the public notice announcing acceptance of the application at issue.

MB and WTB will issue a public notice identifying mutually exclusive applications received during the window. This public notice will also specify a settlement period for resolving application mutual exclusivity. Technical amendments submitted by applicants to resolve conflicts must be minor, as defined by the applicable rules of the FM translator service, and must not create any new mutual exclusivity or other application conflict. No amendments to the FM translator filing window Form 349 application, technical or otherwise, will be accepted between the close of the application filing window, March 14, 2003, and the public notice listing the mutually exclusive FM translator applications.

Federal Communications Commission.
Lisa Scanlan,
Assistant Division Chief, Audio Division, Media Bureau.

[FR Doc. 03-4605 Filed 2-26-03; 8:45 am]

BILLING CODE 6712-01-P